NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 7, 2005. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means: Mail: NARA (NWML), 8601 Adelphi Road, College Park, MD 20740-6001. E-mail: records.mgt@nara.gov. FAX: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:1. Department of Defense, Defense Logistics Agency (N1-361-05-1, 2 items, 2 temporary items). Medical documentation, agreements, and other records pertaining to lactation program participants who use designated agency space for lactation. Also included are electronic copies of records created using electronic mail and word processing.

2. Department of Energy, Bonneville Power Administration (N1-305-04-3, 7 items, 7 temporary items). Records relating to unfunded solicited project proposals, general inquiries, artificial hatchery fish production, and spilling water for fish passage. Also included are electronic copies of records created using electronic mail and word processing.

3. Department of Health and Human Services, Office of the Assistant Secretary for Administration and Management (N1-468-04-1, 9 items, 8 temporary items). Records relating to the management, technical operations, and content of a Web site, Grants.gov, which is used to process applications for grants submitted to all Federal grant-making agencies. Also included are electronic copies of records created using electronic mail and word processing. Proposed for permanent retention are recordkeeping copies of policy and planning files relating to this project, which is part of the President's eGovernment initiative.

4. Department of Homeland Security, Immigration and Customs Enforcement (N1-567-05-1, 19 items, 19 temporary items). Records accumulated by the Federal Air Marshal Service relating to staffing, scheduling, notifications, and travel arrangements for air marshals. Also included are electronic copies of records created using electronic mail and word processing.

5. Department of the Interior, Office of the Secretary (N1-48-05-9, 15 items, 6 temporary items). Records of the Illinois and Michigan Canal National Heritage Corridor Commission, including commission member nominations and appointments files, grant administrative records, audits, closed loan files, and electronic copies of documents created using electronic mail and word processing. Proposed for permanent retention are recordkeeping copies of such records as commission minutes, commission meeting correspondence, committee files, reports, photographs, web content, executive director subject files, and publications.

6. Department of Justice, Bureau of Prisons (N1-129-05-12, 7 items, 5 temporary items). Annual reports, controlled correspondence, and treatment certification files of the Psychology Services Branch. Also included are electronic copies of records created using electronic mail and word processing. Proposed for permanent retention are recordkeeping copies of annual suicide reports and suicide reconstruction files.

7. Department of Labor, Office of Adjudicatory Services (N1-174-05-1, 4 items, 4 temporary items). Monthly and annual statistical reports concerning the activities of the agency's appellate boards, such as the Benefits Review Board and the Employees' Compensation Appeals Board. Also included are electronic copies of records created using electronic mail and word processing.

8. Department of the Navy, Agency-wide (N1-NU-05-1, 14 items, 7 temporary items). Records accumulated by laboratories and other agency facilities that pertain to research and development and testing. Included are such records as correspondence files accumulated at laboratories that are maintained under file codes other than those used by the agency for research and development and case files and laboratory notebooks that pertain to projects lacking historical significance. Also included are electronic copies of records created using electronic mail and word processing. Proposed for permanent retention are recordkeeping copies of such records as technical reports and case files and laboratory notebooks that pertain to historically significant projects.

9. Department of State, Agency-wide (N1-59-05-12, 2 items, 2 temporary items). Letters of appreciation sent to agency employees by staff of other Federal agencies as well as by the public and non-Federal organizations.

10. Department of the Treasury, Bureau of the Public Debt (N1-53-05-1, 4 items, 3 temporary items). Working papers, such as research notes and questionnaires, relating to market research and product studies. Also included are electronic copies of records created using electronic mail and word processing. Recordkeeping copies of final study reports are proposed for permanent retention.

11. Department of the Treasury, Bureau of the Public Debt (N1-53-05-5, 4 items, 4 temporary items). Records relating to the production and inventory control of bond stock, including electronic copies of records created using electronic mail and word processing.

12. Environmental Protection Agency, Office of Enforcement and Compliance Assurance (N1-412-05-5, 3 items, 1 temporary item). Electronic software programs for the Integrated Compliance Information System that the agency uses to track enforcement and compliance activities performed by headquarters and regional offices. Proposed for permanent retention are the system's electronic data and supporting documentation.

13. Government Accountability Office, Office of General Counsel (N1-411-05-1, 2 items, 2 temporary items). Records relating to the agency's review of non-major Federal rules, including findings and reports, cost benefit analyses, and internal audit evaluations. (Non-major rules are rules that deal with routine administrative or technical matters and do not have a major impact on the economy or Government.) Also included are electronic copies of records created using electronic mail and word processing.

14. Tennessee Valley Authority, Agency-wide (N1-142-05-1, 5 items, 5 temporary items). Files relating to technical training, including course plans and content, class rosters, and individual training records. Also included are electronic copies of records created using electronic mail and word processing. This schedule authorizes the agency to apply the proposed disposition instructions to any recordkeeping medium.

Dated: May 13, 2005.
Michael J. Kurtz,
Assistant Archivist for Records Services—Washington, DC.

[FR Doc. 05-10244 Filed 5-20-05; 8:45 am]

BILLING CODE 7515-01-P